ENVIRONMENTAL PROTECTION AGENCY

[EPA-HQ-OPPT-2003-0004; FRL-9949-40]

Access to Confidential Business Information by the National Institute for Occupational Safety and Health

AGENCY: Environmental Protection Agency (EPA).

ACTION: Notice.

SUMMARY: EPA authorized the National Institute for Occupational Safety and Health (NIOSH), to access information which has been submitted to EPA under all sections of the Toxic Substances Control Act (TSCA). Some of the information may be claimed or determined to be Confidential Business Information (CBI). This is a renewal of a previous authorization.

DATES: Access to the confidential data occurred as a result of an on-going agreement between NIOSH and U.S. Environmental Protection Agency, which granted NIOSH access to all sections of TSCA CBI.

FOR FURTHER INFORMATION CONTACT: For technical information contact: Scott Sherlock, Environmental Assistance Division (7408M), Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the agency taking?

In July 2016, NIOSH requested access to certain materials, including TSCA CBI submitted to EPA. In a previous notice published in the Federal Register on August 18, 2006 (71 FR 47807) (FRL-8087-7), EPA confirmed that NIOSH needed to have access to CBI under all sections of TSCA. EPA is issuing notice once again that NIOSH maintain access to TSCA information, including CBI, in order to meet its obligations to conduct special research, experiments, and demonstrations relating to occupational safety and health as are necessary to explore chemical related issues, including those created by new technology in occupational safety and health.

EPA is issuing this notice to inform all submitters of information under all sections of TSCA that the Agency will continue to provide NIOSH access to these CBI materials on a need-to-know basis only. All access to TSCA CBI under this agreement will take place at EPA Headquarters and the NIOSH Headquarters located at 1150 Tusculum Avenue, Cincinnati, OH 45226-1998.

Clearance for access to TSCA CBI under this arrangement may continue until terminated by either party.

NIOSH personnel were briefed on appropriate security procedures before they were permitted access to the CBI.

Authority: 15 U.S.C. 2601 et seq.

Dated: July 28, 2016.
Pamela S. Myrick,
Director, Information Management Division, Office of Pollution Prevention and Toxics.

[FR Doc. 2016-19121 Filed 8-10-16; 8:45 am]

BILLING CODE 6560-50-P